DEPARTMENT OF LABOR

Employment and Training Administration

[TA-W-56,258]

Collins and Aikman Products Company, Division 016, Roxboro, NC (Including Employees Working out of Troy, MI); Amended Certification Regarding Eligibility To Apply for Worker Adjustment Assistance

In accordance with section 223 of the Trade Act of 1974 (19 U.S.C. 2273), the Department of Labor issued a Certification Regarding Eligibility to Apply for Worker Adjustment Assistance on February 24, 2005, applicable to workers of Collins and Aikman Products Company, Division 016, Roxboro, North Carolina. The notice was published in the Federal Register on April 1, 2005 (70 FR 16847).

At the request of a company official, the Department reviewed the certification for workers of the subject firm. The workers produced automotive fabrics.

New information provided by the company official shows that worker separations occurred involving employees of Collins and Aikman Products Company, Division 016, Roxboro, North Carolina, working out of Troy, Michigan.

Based on this new information, the Department is amending this certification to include those workers of Collins and Aikman Products Company, Division 016, Roxboro, North Carolina, working out of Troy, Michigan.

The intent of the Department's certification is to include all workers of the Collins and Aikman Products Company, Division 016, Roxboro, North Carolina, who were adversely affected by increased imports.

The amended notice applicable to TA-W-56,258 is hereby issued as follows:

All workers of Collins and Aikman Products Company, Division 016, Roxboro, North Carolina, including employees of Collins and Aikman Products Company, Division 016, Roxboro, North Carolina, working out of Troy, Michigan, who became totally or partially separated from employment on or after December 13, 2003 through February 24, 2007, are eligible to apply for adjustment assistance under Section 223 of the Trade Act of 1974.

Signed at Washington, DC, this 6th day of June 2006.
Elliott S. Kushner,
Certifying Officer, Division of Trade Adjustment Assistance.

[FR Doc. E6-9886 Filed 6-21-06; 8:45 am]

BILLING CODE 4510-30-P